ENVIRONMENTAL PROTECTION AGENCY

[EPA-HQ-OPPT-2018-0464 and EPA-HQ-OPPT-2023-0601; FRL-11581-02-OCSPP]

Initiation of Prioritization Under the Toxic Substances Control Act (TSCA); 4,4′-Methylene bis(2-chloroaniline) (MBOCA); Extension of Comment Period

AGENCY: Environmental Protection Agency (EPA).

ACTION: Notice; extension of comment period.

SUMMARY: In the Federal Register of December 18, 2023, EPA announced the initiation and solicitation of public comment on the prioritization process for five chemical substances as candidates for designation as High-Priority Substances for risk evaluation under the Toxic Substances Control Act (TSCA) and related implementing regulations. This document extends the comment period for one of the five chemicals: 4,4′-methylene bis(2-chloroaniline) (MBOCA). The comment period is currently scheduled to end on March 18, 2024.

DATES: The comment period at 88 FR 87423 is extended for MBOCA. Comments for MBOCA must be received on or before April 17, 2024.

ADDRESSES: Submit your comments for MBOCA, identified by docket identification (ID) number EPA-HQ-OPPT-2018-0464, through https://www.regulations.gov. Follow the online instructions for submitting comments. Do not submit electronically any information you consider to be Confidential Business Information (CBI) or other information whose disclosure is restricted by statute. Additional instructions on commenting or visiting the docket, along with more information about dockets generally, is available at https://www.epa.gov/dockets.

FOR FURTHER INFORMATION CONTACT:

For technical information contact: Sarah Au, Data Gathering and Analysis Division (7406M), Office of Pollution Prevention and Toxics, Environmental Protection Agency, 1200 Pennsylvania Ave. NW, Washington, DC 20460-0001; telephone number: (202) 564-0398; email address: au.sarah@epa.gov.

For general information contact: The TSCA-Hotline, ABVI-Goodwill, 422 South Clinton Ave., Rochester, NY 14620; telephone number: (202) 554-1404; email address: TSCA-Hotline@epa.gov.

SUPPLEMENTARY INFORMATION: In response to a stakeholder's request for additional time to review materials and prepare comments for MBOCA, EPA is extending the comment period for MBOCA that was established in the Federal Register document of December 18, 2023, at 88 FR 87423 (FRL-11581-01-OCSPP) for 30 days, from March 18, 2024, to April 17, 2024. The comment period for the other four chemicals is not being extended by this Federal Register Notice.

In addition, EPA would also like to clarify that the Federal Register document of December 18, 2023, included a typographical error for the year associated with the MBOCA docket ID number. The correct docket ID number for MBCOA is EPA-HQ-OPPT-2018-0464.

To submit comments or access the docket, please follow the detailed instructions provided under ADDRESSES. If you have questions, consult the technical person listed under FOR FURTHER INFORMATION CONTACT.

Authority: 15 U.S.C. 2601 et seq.

Dated: February 29, 2024.
Michal Freedhoff,
Assistant Administrator, Office of Chemical Safety and Pollution Prevention.

[FR Doc. 2024-04720 Filed 3-5-24; 8:45 am]

BILLING CODE 6560-50-P